DEPARTMENT OF HEALTH AND HUMAN SERVICES

National Institutes of Health

Center for Scientific Review; Amended Notice of Meeting

Notice is hereby given of a change in the meeting of the Atherosclerosis and Inflammation of the Cardiovascular System Study Section, October 1, 2013, 08:00 a.m. to October 2, 2013, 06:00 PM, Doubletree Hotel Bethesda, (Formerly Holiday Inn Select), 8120 Wisconsin Avenue, Bethesda, MD 20814, which was published in the Federal Register on September 10, 2013, 78 FR 55268-55269.

The meeting will be held at the National Institutes of Health, 6701 Rockledge Drive, Bethesda, MD 20892. The meeting will start on November 25, 2013 at 09:00 a.m. and end on November 26, 2013 at 04:00 p.m. The meeting is closed to the public.

Dated: October 29, 2013.
Melanie J. Gray,
Program Analyst, Office of Federal Advisory Committee Policy.

[FR Doc. 2013-26220 Filed 11-1-13; 8:45 am]

BILLING CODE 4140-01-P